DEPARTMENT OF TRANSPORTATION

Federal Railroad Administration

[Docket Number FRA-2001-10654]

Petition for Waiver of Compliance

In accordance with Part 211 of Title 49 Code of Federal Regulations (CFR), this document provides the public notice that by a document dated July 26, 2012, the Association of American Railroads (AAR) has petitioned the Federal Railroad Administration (FRA) for an extension and amendment of an existing waiver of compliance from certain provisions of the Federal railroad safety regulations contained at 49 CFR 213.143 and 213.355. FRA assigned the petition Docket Number FRA-2001-10654.

The existing waiver was originally granted on April 22, 2003, and was extended by a letter dated February 25, 2008. The current waiver expires on February 1, 2013. AAR is petitioning for an additional extension of the waiver. The waiver permits the operation of trains at Class 5 speeds over “heavy-point” frog designs conforming to the standards for Class 4 track frogs guard check and face gage dimensions.

The heavy-point frog is a unique design, which has a thicker frog point. As proposed in the original waiver petition, AAR states that it offers safety benefits over a traditional frog because there is more mass to reduce metal fatigue from impact loading, greater durability, reduced susceptibility to point rollover, and better ability to guide the wheel flange toward the proper flangeway. Heavy-point frog insert design characteristics gradually widen to 31/32 (0.9688) inches overall, resulting in the heavy-point frog insert point being thicker at the actual ⅝ (0.6250)-inch frog point gage lines. The gage line is actually 11/32 (0.3438) inches thicker than a traditional ⅝ (0.6250)-inch rail bound manganese frog point. Heavy-point frogs reduce the standard guard check distance from 4 feet and 6⅝ inches (54.6250 inches) to 4 feet 6²⁹/64 inches (54.4531 inches), which does not comply with minimum safety standards for Class 5 track.

AAR also seeks approval for the operation of trains at Class 6 speeds over heavy-point frog designs with guard check gages conforming to the standards for Class 4 track frogs guard check and face gage dimensions. AAR states that waiver denial would adversely affect proposed high-speed operations that have numerous existing heavy-point frog installations. AAR claims that since the requirements are the same for Class 5 and Class 6 (49 CFR 213.143 and 213.355), the waiver should be extended to Class 6.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by October 22, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on September 17, 2012.
Ron Hynes,
Director, Office of Safety Assurance and Compliance.

[FR Doc. 2012-23270 Filed 9-20-12; 8:45 am]

BILLING CODE 4910-06-P